DEPARTMENT OF HOUSING AND URBAN DEVELOPMENT

[Docket No.FR-4903-N-40]

Notice of Submission of Proposed Information Collection to OMB; Evaluation of the Welfare to Work Voucher Program

AGENCY: Office of the Chief Information Officer.

ACTION: Notice.

SUMMARY: The proposed information collection requirement described below has been submitted to the Office of Management and Budget (OMB) for review, as required by the Paperwork Reduction Act. The Department is soliciting public comments on the subject proposal.

Information will be used to evaluate and assess the impact from the provision of housing assistance on the employment income, residential choices and well being of welfare-eligible families. This follow-up survey is gathered from sub-sample participants who completed a baseline survey.

DATES: Comments Due Date: July 23, 2004.

ADDRESSES: Interested persons are invited to submit comments regarding this proposal. Comments should refer to the proposal by name and/or OMB approval Number (2528-XXXX) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins and at HUD's Web site at http://www5.hud.gov:63001/po/i/icbts/collectionsearch.cfm.

SUPPLEMENTARY INFORMATION: This Notice informs the public that the U.S. Department of Housing and Urban Development (HUD) has submitted to OMB, for emergency processing, a survey instrument to obtain information from faith based and community organizations on their likelihood and success at applying for various funding programs. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Evaluation of the Welfare to Work Voucher Program.

OMB Approval Number: 2528-Pending.

Form Numbers: None.

Description of the Need for the Information and Its Proposed Use: Information will be used to evaluate and assess the impact from the provision of housing assistance on the employment, income, residential choices and well being of welfare-eligible families. This follow-up survey is gathered from sub-sample participants who completed a baseline survey.

Frequency of Submission: Annually.

| Number of respondents | Annual responses | × | Hours per response | = | Burden hours
Reporting Burden | 3,900 | 1 |  | 0.69 |  | 2,697

Total Estimated Burden Hours: 2,697.

Status: New Collection.

Authority: Section 3507 of the Paperwork Reduction Act of 1995, 44 U.S.C. 35, as amended.

Dated: June 17, 2004.
Donna L. Eden,
Director, Office of Investment Strategies, Policy, and Management, Office of the Chief Information Officer.

[FR Doc. 04-14184 Filed 6-22-04; 8:45 am]

BILLING CODE 4210-72-P